SUSQUEHANNA RIVER BASIN COMMISSION

Actions Taken at June 20, 2013, Meeting

AGENCY: Susquehanna River Basin Commission.

ACTION: Notice.

SUMMARY: As part of its regular business meeting held on June 20, 2013, in Harrisburg, Pennsylvania, the Commission took the following actions: (1) Approved or tabled the applications of certain water resources projects; (2) rescinded approvals for two projects; (3) accepted settlements in lieu of penalty from Furman Foods, Inc. and Carrizo (Marcellus) LLC; and (4) took additional actions, as set forth in the SUPPLEMENTARY INFORMATION below.

DATES: June 20, 2013.

ADDRESSES: Susquehanna River Basin Commission, 1721 N. Front Street, Harrisburg, PA 17102-2391.

FOR FURTHER INFORMATION CONTACT: Richard A. Cairo, General Counsel, telephone: (717) 238-0423, ext. 306; fax: (717) 238-2436; email: rcairo@srbc.net. Regular mail inquiries may be sent to the above address. See also Commission Web site at www.srbc.net.

SUPPLEMENTARY INFORMATION: In addition to the actions taken on projects identified in the summary above and the listings below, the following items were also presented or acted upon at the business meeting: (1) Honored retiring staff members Thomas W. Beauduy, Deputy Executive Director, and Susan S. Obleski, Communications Director; (2) heard a presentation from SRBC staff member Kim Dagen on upgrades to the Susquehanna Early Warning System for water suppliers with intakes on the Susquehanna River; (3) adopted the proposed FY-2015 budget for the period July 1, 2014, to June 20, 2015; (4) adopted the FY-2014/2015 Water Resources Program; (5) released the 2013 Update of the Comprehensive Plan for public review and comment and scheduled a public hearing on the 2013 Update on August 15, 2013; (6) approved a revised Regulatory Program Fee Schedule; (7) elected the member from the federal government as Chair of the Commission and the member from New York State as the Vice Chair of the Commission for the period July 1, 2013, to June 30, 2014; and (8) approved/ratified six grants, including two resolutions for grants involving AMD Abatement and Treatment and Watershed Restoration and Protection.

Compliance Matters

The Commission approved settlements in lieu of civil penalty for the following projects:

1. Furman Foods, Inc., Point Township, Northumberland County, Pa.—$52,150.

2. Carrizo (Marcellus) LLC, various operations within the Susquehanna River Basin, Pa.—$90,000.

Rescission of Project Approvals

The Commission rescinded approvals for the following projects:

1. Project Sponsor and Facility: Chevron Appalachia, LLC (Chest Creek), Chest Township, Clearfield County, Pa. (Docket No. 20100603).

2. Project Sponsor and Facility: Albemarle Corporation, Borough of Tyrone, Blair County, Pa. (Docket Nos. 20010203 and 20010203-1).

Project Applications Approved

The Commission approved the following project applications:

1. Project Sponsor and Facility: Aqua Infrastructure, LLC (Clearfield Creek), Boggs Township, Clearfield County, Pa. Renewal of surface water withdrawal of up to 1.500 mgd (peak day) (Docket No. 20081202).

2. Project Sponsor and Facility: Michael and Sandra Buhler (Bennett Branch Sinnemahoning Creek), Huston Township, Clearfield County, Pa. Surface water withdrawal of up to 1.000 mgd (peak day).

3. Project Sponsor: Chobani, Inc. Project Facility: South Edmeston, Town of Columbus, Chenango County, N.Y. Groundwater withdrawal of up to 0.641 mgd (30-day average) from Well 1.

4. Project Sponsor: Chobani, Inc. Project Facility: South Edmeston, Town of Columbus, Chenango County, N.Y. Groundwater withdrawal of up to 0.641 mgd (30-day average) from Well 2.

5. Project Sponsor: Chobani, Inc. Project Facility: South Edmeston, Town of Columbus, Chenango County, N.Y. Groundwater withdrawal of up to 0.662 mgd (30-day average) from Well 3.

6. Project Sponsor: Chobani, Inc. Project Facility: South Edmeston, Town of Columbus, Chenango County, N.Y. Consumptive water use of up to 0.283 mgd (peak day).

7. Project Sponsor: Delta Borough Municipal Authority. Project Facility: Delta Borough Water System, Peach Bottom Township, York County, Pa. Groundwater withdrawal of up to 0.073 mgd (30-day average) from Well 5.

8. Project Sponsor: Delta Borough Municipal Authority. Project Facility: Delta Borough Water System, Peach Bottom Township, York County, Pa. Groundwater withdrawal of up to 0.043 mgd (30-day average) from Well 6.

9. Project Sponsor: Delta Borough Municipal Authority. Project Facility: Delta Borough Water System, Peach Bottom Township, York County, Pa. Groundwater withdrawal of up to 0.064 mgd (30-day average) from Well 7.

10. Project Sponsor and Facility: Equipment Transport, LLC (Pine Creek), Gaines Township, Tioga County, Pa. Surface water withdrawal of up to 0.467 mgd (peak day).

11. Project Sponsor and Facility: Equipment Transport, LLC (Susquehanna River), Great Bend Township, Susquehanna County, Pa. Surface water withdrawal of up to 0.999 mgd (peak day).

12. Project Sponsor and Facility: Furman Foods, Inc., Point Township, Northumberland County, Pa. Consumptive water use of up to 0.900 mgd (peak day).

13. Project Sponsor and Facility: LDG Innovation, LLC (Tioga River), Lawrenceville Borough, Tioga County, Pa. Modification to low flow protection requirements of the surface water withdrawal approval (Docket No. 20100311).

14. Project Sponsor and Facility: Municipal Authority of the Borough of Mansfield, Richmond Township, Tioga County, Pa. Groundwater withdrawal of up to 0.079 mgd (30-day average) from Well 3, and authorization for interconnection with Mansfield University as a supplemental source.

15. Project Sponsor and Facility: Martinsburg Municipal Authority, North Woodbury Township, Blair County, Pa. Groundwater withdrawal of up to 0.288 mgd (30-day average) from Wineland Well RW-1.

16. Project Sponsor and Facility: Navitus, LLC (North Spring, Logan Branch Watershed), Spring Township, Centre County, Pa. Surface water withdrawal of up to 1.000 mgd (peak day).

17. Project Sponsor: New Morgan Landfill Company, Inc. Project Facility: Conestoga Landfill, New Morgan Borough, Berks County, Pa. Groundwater withdrawal of up to 0.007 mgd (30-day average) from Well SW-4.

18. Project Sponsor and Facility: Somerset Regional Water Resources, LLC (Salt Lick Creek), New Milford Township, Susquehanna County, Pa. Modification to project features of the surface water withdrawal approval (Docket No. 20100905).

19. Project Sponsor and Facility: Southwestern Energy Production Company (Middle Lake), New Milford Township, Susquehanna County, Pa. Modification to low flow protection requirements of the surface water withdrawal approval (Docket No. 20121223).

20. Project Sponsor and Facility: WPX Energy Appalachia, LLC (Susquehanna River), Great Bend Township, Susquehanna County, Pa. Renewal of surface water withdrawal of up to 1.000 mgd (peak day) (Docket No. 20090303).

21. Project Sponsor and Facility: York County Solid Waste and Refuse Authority, Hopewell Township, York County, Pa. Modification to metering requirements of the groundwater withdrawal approval (Docket No. 20121226).

Project Applications Tabled

The Commission tabled the following project applications:

1. Project Sponsor and Facility: Aqua Infrastructure, LLC (Tioga River), Hamilton Township, Tioga County, Pa. Application for surface water withdrawal of up to 2.500 mgd (peak day).

2. Project Sponsor and Facility: Chesapeake Appalachia, LLC (Susquehanna River), Athens Township, Bradford County, Pa. Application for renewal of surface water withdrawal of up to 1.440 mgd (peak day) (Docket No. 20080906).

3. Project Sponsor: New Oxford Municipal Authority. Project Facility: Oxen Country Meadows, Oxford Township, Adams County, Pa. Application for groundwater withdrawal of up to 0.144 mgd (30-day average) from Oxen Country Meadows (OCM) Well 1.

4. Project Sponsor and Facility: State College Borough Water Authority, Ferguson Township, Centre County, Pa. Application for renewal of groundwater withdrawal of up to 0.432 mgd (30-day average) from Well 41 (Docket No. 19820501).

5. Project Sponsor and Facility: State College Borough Water Authority, Ferguson Township, Centre County, Pa. Application for renewal of groundwater withdrawal of up to 1.440 mgd (30-day average) from Well 43 (Docket No. 19820501).

6. Project Sponsor and Facility: State College Borough Water Authority, Ferguson Township, Centre County, Pa. Application for renewal of groundwater withdrawal of up to 1.720 mgd (30-day average) from Well 53 (Docket No. 19820501).

7. Project Sponsor: SWEPI LP (Tioga River), Richmond Township, Tioga County, Pa. Application for renewal of surface water withdrawal with modification to increase by an additional 0.843 mgd (peak day), for a total of 0.950 mgd (peak day) (Docket No. 20090612).

Authority: Pub. L. 91-575, 84 Stat. 1509 et seq., 18 CFR Parts 806, 807, and 808.

Dated: July 3, 2013.
Thomas W. Beauduy,
Deputy Executive Director.

[FR Doc. 2013-16726 Filed 7-11-13; 8:45 am]

BILLING CODE 7040-01-P